DEPARTMENT OF STATE

[Public Notice 10134]

U.S. Advisory Commission on Public Diplomacy; Notice of Meeting

The U.S. Advisory Commission on Public Diplomacy will hold a public meeting from 10:30 a.m. until 12:00 p.m., Thursday, September 28, 2017 at the U.S. Capitol Visitor Center (SVC) 212-10 (First St. NE., Washington, DC 20515).

The public meeting will be on the state and trajectory of public diplomacy. The session will include a presentation and discussion of key findings from the Commission's 2017 Comprehensive Annual Report on Public Diplomacy and International Broadcasting.

This meeting is open to the public, Members and staff of Congress, the State Department, Defense Department, the media, and other governmental and non-governmental organizations. An RSVP is required. To attend and make any requests for reasonable accommodation, email Michelle Bowen at BowenMC1@state.gov by 5 p.m. on Monday, September 25, 2017. Please arrive for the meeting by 10:15 a.m. to allow for a prompt start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. Sim Farar of California, Chairman; Mr. William Hybl of Colorado, Vice Chairman; Ambassador Penne Korth-Peacock of Texas; Anne Terman Wedner of Illinois; and Ms. Georgette Mosbacher of New York. Two seats on the Commission are currently vacant.

This announcement will appear in the Federal Register less than 15 days prior to the meeting. The Department of State finds that there is an exceptional circumstance. This Advisory Committee meeting will be held on September 28th so that the Commission can consult with the current Acting Under Secretary of State for Public Diplomacy and Public Affairs, whose last business day with the Department will be the following day.

To request further information about the meeting or the U.S. Advisory Commission on Public Diplomacy, you may contact its Executive Director, Dr. Shawn Powers, at PowersSM@state.gov.

Shawn Powers,
Executive Director, Advisory Commission on Public Diplomacy, Department of State.

[FR Doc. 2017-20007 Filed 9-19-17; 8:45 am]

BILLING CODE 4710-45-P